DEPARTMENT OF THE INTERIOR

Bureau of Land Management

[MT-924-1430-ET; MTM 40729]

Public Land Order No. 7432; Partial Revocation of Secretarial Order Dated August 24, 1903; Montana

AGENCY: Bureau of Land Management, Interior.

ACTION: Public Land Order.

SUMMARY: This order revokes a Secretarial order insofar as it affects 382.32 acres of public lands withdrawn for the Bureau of Reclamation's Lower Yellowstone Project. The lands are no longer needed for reclamation purposes. This action will open 222.32 acres to surface entry, subject to other segregations of record. The remaining 160 acres have been conveyed out of Federal ownership and the revocation on this portion is a record-clearing action only. The lands in Federal ownership have been and will remain open to mining and mineral leasing.

EFFECTIVE DATE: April 24, 2000.

FOR FURTHER INFORMATION CONTACT: Sandra Ward, BLM Montana State Office, P.O. Box 36800, Billings, Montana 59107, 406-896-5052.

By virtue of the authority vested in the Secretary of the Interior by Section 204 of the Federal Land Policy and Management Act of 1976, 43 U.S.C. 1714 (1994), it is ordered as follows:

1. The Secretarial Order dated August 24, 1903, which withdrew public lands for the Bureau of Reclamation's Lower Yellowstone Project, is hereby revoked insofar as it affects the following described lands:

Principal Meridian, Montana

(a) Federal Lands (222.32 Acres)

T. 19 N., R. 57 E.,

Sec. 24, W½W½.

T. 21 N., R. 58 E.,

Sec. 22, lots 4 and 5.

(b) Non-Federal Lands (160 Acres)

T. 19 N., R. 57 E.,

Sec. 24, N½NE¼, SE¼NE¼, and NE¼NW¼.

The areas described in (a) and (b) aggregate 382.32 acres in Richland County.

2. At 9 a.m. on April 24, 2000, the lands referenced in paragraph 1(a) shall be opened to the operation of the public land laws generally, subject to valid existing rights, the provisions of existing withdrawals, other segregations of record, and the requirements of applicable law. All valid applications received at or prior to 9:00 a.m. on April 24, 2000, shall be considered as simultaneously filed at that time. Those received thereafter shall be considered in the order of filing.

Dated: March 10, 2000.
Kevin Gover,
Assistant Secretary of the Interior.

[FR Doc. 00-7294 Filed 3-23-00; 8: 45 am]

BILLING CODE 4310-DN-P